DEPARTMENT OF DEFENSE

Department of the Navy

Public Hearings for the Draft Environmental Impact Statement/Overseas Environmental Impact Statement for the Shock Trial of the MESA VERDE (LPD 19)

AGENCY: Department of the Navy, DoD.

ACTION: Notice.

SUMMARY: Pursuant to Section 102(2)(C) of the National Environmental Policy Act of 1969 (NEPA) and regulations implemented by the Council on Environmental Quality (40 C.F.R. Parts 1500-1508), and Presidential Executive Order 12114, Environmental Effects Abroad of Major Federal Actions, the Department of the Navy (Navy) has prepared and filed with the U.S. Environmental Protection Agency a Draft Environmental Impact Statement/Overseas Environmental Impact Statement (EIS/OEIS) on October 19, 2007. This EIS/OEIS evaluates the environmental effects for the shock trial of the MESA VERDE (LPD 19) at a site offshore of either Norfolk, Virginia; Mayport, Florida; or Pensacola, Florida. A Notice of Intent for this DEIS/OEIS was published in the Federal Register on March 12, 2004. The Navy will conduct three public hearings to receive oral and written comments on the Draft EIS/OEIS. Federal, State, and local agencies and interested individuals are invited to be present or represented at the public hearings. This notice announces the dates and locations of the public hearings for this Draft EIS/OEIS.

DATES AND ADDRESSES: Public hearings have been scheduled as follows:

1. Tuesday, November 27, 2007, 7 p.m. to 9 p.m., Kirn Memorial Main Library, 301 East City Hall Avenue, Norfolk, VA.

2. Wednesday, November 28, 2007, 7 p.m. to 9 p.m., Pensacola Junior College, Hagler Auditorium, 1000 College Boulevard, Pensacola, FL.

3. Thursday, November 29, 2007, 7 p.m. to 9 p.m., Fletcher High School, 700 Seagate Avenue, Neptune Beach, FL.

FOR FURTHER INFORMATION CONTACT: Mr. Don Shaver at 202-781-4864 during normal business hours Monday through Friday.

SUPPLEMENTARY INFORMATION: The MESA VERDE (LPD 19) is the third ship in the new SAN ANTONIO (LPD 17) Class of nine planned amphibious transport dock ships being acquired by the Navy to meet Marine Air-Ground Task Force lift requirements. The Draft EIS/OEIS evaluates the environmental consequences of conducting a proposed shock trial of the MESA VERDE at an offshore location. The ship would be subjected to a series of up to four 4,536 kilogram (kg) (10,000 pound [lb]) explosive charge detonations in the spring/summer of 2008.

The Draft EIS/OEIS identifies and evaluates the potential environmental impacts of three alternative locations for conducting an at-sea shock trial offshore of Naval Station Norfolk, Virginia; Naval Station Mayport, Florida; or Naval Air Station Pensacola, Florida. These alternatives are compared with respect to project purpose and need, operational criteria, and environmental impacts.

The Notice of Intent (NOI) published for this EIS/OEIS in the Federal Register on 12 March 2004 identified the alternative location of offshore Pascagoula, in addition to the “no action” alternative, for analysis in this EIS/OEIS. The Base Realignment and Closure Act of 2005 (BRAC) identified Naval Station Pascagoula for closure. After the 2005 BRAC recommendation, the DON revisited the operational requirements for the Draft EIS/OEIS and identified offshore off Pensacola, Florida as an additional alternative shock trial location, removing the offshore Pascagoula alternative location from further study.

Navy has identified the preferred alternative of conducting the shock trial offshore of Mayport, Florida. This alternative would meet the project purpose and need, satisfy operational requirements, and potentially minimize environmental impacts.

The “no action” alternative does not meet the purpose and need because it would prevent the Navy from adequately assessing the survivability of this ship Class. The ship must undergo a shock trial because, although computer modeling and component testing have been undertaken, an at-sea shock trial would provide the best means to assess the shock response of the entire manned ship and the interaction of the ship's systems and components.

Environmental impacts that may occur from the proposed action include minor or temporary impacts to the physical and biological environments and existing human uses of the area. Additionally, there is a risk of impacts to marine mammals and sea turtles, which varies between proposed shock trial locations and seasons. However, protective measures will be established to minimize risk to marine mammals and sea turtles. The NMFS is concurrently evaluating Navy's request for a Letter of Authorization for the Incidental Take of Marine Mammals in their regulatory role under the Marine Mammal Protection Act. Navy has initiated early, formal consultation with the NMFS under Section 7 of the Endangered Species Act.

The Draft EIS/OEIS has been distributed to various federal, state, and local agencies, elected officials, special interest groups, and interested parties. The Draft EIS/OEIS is available on the internet via the project Web site at: http://www.mesaverdeeis.com. The Draft EIS/OEIS is also available for public review at the following local libraries: Beaches Branch Library, 600 3rd Street, Neptune Beach, FL; Kirn Memorial Main Library, 301 East City Hall Avenue, Norfolk, VA; Jacksonville Main Library, 303 Laura Avenue, Jacksonville, FL; Pascagoula Public Library, 3214 Pascagoula Street, Pascagoula, MS; Pensacola Public Library, 200 West Gregory Street, Pensacola, FL; and St. Mary's Public Library, 100 Herb Bauer Drive, St. Mary's, GA.

Navy invites the general public, local governments, other federal agencies, and state agencies to submit written comments or suggestions concerning the alternatives and analysis addressed in the Draft EIS/OEIS. The public and government agencies are invited to participate in the public meetings where oral and written comments will be received. As a cooperating agency, a NMFS representative will be participating at the public meetings.

Comments should be sent to: MESA VERDE Shock Trial, Booz Allen Hamilton, Maritime Plaza, 1201 M St, SE., Washington, DC 20003. Comments may also be sent by electronic mail to the following address: lpd17eis@bah.com.

All written comments must be post marked or received by December 10, 2007, to ensure they become part of the official record. All comments will be responded to in the Final EIS/OEIS.

Dated: October 24, 2007.
T. M. Cruz,
Lieutenant, Judge Advocate General's Corps, U.S. Navy, Federal Register Liaison Officer.

[FR Doc. E7-21327 Filed 10-29-07; 8:45 am]

BILLING CODE 3810-FF-P